NATIONAL AERONAUTICS AND SPACE ADMINISTRATION

[NOTICE: (20-067)]

Name of Information Collection: NASA Enterprise Salesforce COVID-19 Contact Tracing

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections.

DATES: Comments are due by Monday, October 4, 2020.

ADDRESSES: All comments should be addressed to Roger Kantz, National Aeronautics and Space Administration, 300 E Street SW, Washington, DC 20546-0001.

FOR FURTHER INFORMATION CONTACT: Requests for additional information or copies of the information collection instrument(s) and instructions should be directed to Roger Kantz, NASA Clearance Officer, NASA Headquarters, 300 E Street SW, JF0000, Washington, DC 20546, 281-792-7885 or email Travis.Kantz@nasa.gov.

SUPPLEMENTARY INFORMATION:

I. Abstract

The information will be used to determine whether NASA personnel have been exposed to the COVID-19 virus and to track and trace their interactions across the NASA community for identifying possible points of exposure.

Those individuals that volunteer, will be contacted by a NASA Contact Tracer, a to-be-designated NASA healthcare employee, and will be first read the privacy act, to understand their rights and what this information will be used for. Then they will be asked, orally, to confirm if they have symptoms or not (yes/no question). The Tracer will then enter that information, as well as the names, phone numbers, and emails of those they have been in contact with into the newly developed tracking and tracing digital application on NASA's enterprise solution, Salesforce.

While participation is voluntary, it is strongly encouraged as failure to provide the requested information may result in potential increased exposure of personnel to the virus.

NASA may share this information for authorized purposes with (1) private or other government health care providers or agencies for referral or special program responsibilities, and (2) other entities outlined under standard routine uses for all NASA systems of records.

II. Methods of Collection

The voluntary data is collected orally by a NASA Contact Tracer, a to-be-designated NASA healthcare employee, who will then enter all the information into the newly developed tracking and tracing digital application on NASA's enterprise solution, Salesforce.

The ability for the Tracer to keep records through this electronic method will ensure higher rate of inclusion and assists in the efficiency of the stages of report processing by human subject matter analysts.

III. Data

Title: NASA Enterprise Salesforce COVID-19 Contact Tracing.

OMB Number: 2700-0178.

Type of Review: New.

Affected Public: Individuals.

Estimated Annual Number of Activities: 5,400.

Estimated Number of Respondents per Activity: 1.

Annual Responses: 5,400.

Estimated Time per Response: 8 hours.

Estimated Total Annual Burden Hours: 43,200 hours.

Estimated Total Annual Cost: $1,900,800.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Roger Kantz,
NASA PRA Clearance Officer.

[FR Doc. 2020-17475 Filed 8-10-20; 8:45 am]

BILLING CODE 7510-13-P